DEPARTMENT OF COMMERCE

International Trade Administration

[A-570-601]

Tapered Roller Bearings and Parts Thereof, Finished and Unfinished, From the People's Republic of China: Notice of Correction to the Initiation of Antidumping Duty Changed Circumstances Review

AGENCY: Enforcement and Compliance, International Trade Administration, Department of Commerce.

FOR FURTHER INFORMATION CONTACT: Alice Maldonado, Enforcement and Compliance, International Trade Administration, U.S. Department of Commerce, 14th Street and Constitution Avenue NW., Washington, DC 20230; telephone: (202) 482-4682.

SUPPLEMENTARY INFORMATION: On August 13, 2015, the Department of Commerce (the Department) published in the Federal Register the initiation of the antidumping duty changed circumstances review on tapered roller bearings and parts thereof, finished and unfinished (TRBs), from the People's Republic of China (PRC) to determine whether to reinstate the antidumping duty order with respect to Shanghai General Bearing Co., Ltd. (SGBC/SKF).¹ The period of review is June 1, 2014, through May 31, 2015. In the Initiation, the Department incorrectly stated in two places that if we determine in this changed circumstances review that SGBC/SKF resumed dumping, “effective on the date of the publication of our final results,” ² we will direct U.S. Customs and Border Protection (CBP) to suspend liquidation of all entries of TRBs manufactured in the PRC and exported by SGBC/SKF. However, we intended to state the following: “If we preliminarily determine in this changed circumstances review that SGBC/SKF resumed dumping, we will direct CBP to suspend liquidation of all entries of TRBs manufactured in the PRC, and exported, by SGBC/SKF” (emphasis also added). As a result, we now correct the Initiation as noted above.

¹ See Tapered Roller Bearings and Parts Thereof, Finished and Unfinished, from the People's Republic of China: Notice of Correction to the Initiation of Antidumping Duty Changed Circumstances Review, 80 FR 48493 (August 13, 2015) (Initiation).

² Id., at 48493 and 48497 (emphasis added).

This correction to the initiation of the antidumping duty changed circumstances review is issued and published in accordance with section 751(b)(1) of the Tariff Act of 1930, as amended.

Dated: May 26, 2016.
Paul Piquado,
Assistant Secretary for Enforcement and Compliance.

[FR Doc. 2016-13203 Filed 6-3-16; 8:45 am]

BILLING CODE 3510-DS-P